Proclamation 9095 of March 31, 2014

National Donate Life Month, 2014

By the President of the United States of America

A Proclamation

Each day, in quiet hospital rooms and busy offices, in familiar sanctuaries and family living rooms, people make the courageous decision to give the gift of life. After passing his first driving test, an elated teenager adds a lifesaving symbol to his license. While struggling to comprehend their own loss, grieving parents choose to help another child live. During National Donate Life Month, we celebrate those who provide vital organ, eye, and tissue donations, and we bring new hope to the growing list of men, women, and children who still need a donation.

More than 120,000 Americans are now on the transplant list, and each day, 18 of them die waiting. The individuals in need of these donations are our moms, dads, brothers, sisters, children, and friends—someone important to us or someone else. I encourage all Americans to think about their loved ones and to consider becoming a donor. Discuss your decision with those close to you, and if you decide to donate, visit www.OrganDonor.gov and sign up in your State's donor registry.

Every donor can save up to eight lives, and thanks to scientific advances, we have the potential to help even more people in need. Last year, I signed the HIV Organ Policy Equity Act, which allows scientists to research organ donation from one person with human immunodeficiency virus (HIV) to another. Ultimately, this law could save lives—permitting donations between people living with HIV and expanding opportunities for more Americans to participate in these life-saving efforts.

As a Nation, let us shine a light on the power of donation. Let us lift up the friends and families of donors and remember those who ensured that in their death, others received life.

NOW, THEREFORE, I, BARACK OBAMA, President of the United States of America, by virtue of the authority vested in me by the Constitution and the laws of the United States, do hereby proclaim April 2014 as National Donate Life Month. I call upon health care professionals, volunteers, educators, government agencies, faith-based and community groups, and private organizations to join forces to boost the number of organ and tissue donors throughout our Nation.

IN WITNESS WHEREOF, I have hereunto set my hand this thirty-first day of March, in the year of our Lord two thousand fourteen, and of the Independence of the United States of America the two hundred and thirty-eighth.

[FR Doc. 2014-07780

Filed 4-3-14; 11:15 am]

Billing code 3295-F4